NUCLEAR REGULATORY COMMISSION

Notice of Sunshine Act Meetings

Date: Weeks of July 23, 30, August 6, 13, 20, 27, 2007.

Place: Commissioners' Conference Room, 11555 Rockville Pike, Rockville, Maryland.

Status: Public and closed.

Matters to be considered:

Week of July 23, 2007

Tuesday, July 24, 2007

9:30 a.m. Preparation for the 2008 Convention on Nuclear Safety (closed—ex. 9).

1:55 p.m. Affirmation Session (Public Meeting) (Tentative).

a. Request for Reconsideration of the Wording of 10 CRF Sec. 26.205(D)(4) as Affirmed on April 17, 2007 (Tentative).

This meeting will be webcast live at the Web address, http://www.nrc.gov.

2 p.m. Briefing on Palo Verde Nuclear Generating Station (Public Meeting). (Contact: Michael Markley, (301) 415-5723).

This meeting will be webcast live at the Web address, http://www.nrc.gov.

Wednesday, July 25, 2007

9:30 a.m. Continuation of Discussion of Security Issues (closed—ex. 1 & 3) held Wednesday, July 18, 2007.

2 p.m. Discussion of Management Issues (closed—ex. 2).

Week of July 30, 2007—Tentative

Thursday, August 2, 2007

1:30 p.m. Briefing on Risk-Informed, Performance-Based Regulation (Public Meeting). (Contact: John Monninger, (301) 415-6189).

This meeting will be webcast live at the Web address, http://www.nrc.gov.

Week of August 6, 2007—Tentative

There are no meetings scheduled for the Week of August 6, 2007.

Week of August 13, 2007—Tentative

There are no meetings scheduled for the Week of August 13, 2007.

Week of August 20, 2007—Tentative

Tuesday, August 21, 2007

1:30 p.m. Meeting with OAS and CRCPD (Public Meeting). (Contact: Shawn Smith, (301) 415-2620).

This meeting will be webcast live at the Web address, http://www.nrc.gov.

Wednesday, August 22, 2007

9:30 a.m. Periodic Briefing on New Reactor Issues (Morning Session) (Public Meeting). (Contact: Donna Williams, (301) 415-1322).

This meeting will be webcast live at the Web address, http://www.nrc.gov.

1:30 p.m. Periodic Briefing on New Reactor Issues (Afternoon Session) (Public Meeting). (Contact: Donna Williams, (301) 415-1322).

This meeting will be webcast live at the Web address, http://www.nrc.gov.

Week of August 27, 2007—Tentative

There are no meetings scheduled for the Week of August 27, 2007.

* * * * *

*The schedule for Commission meetings is subject to change on short notice. To verify the status of meetings call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 19, 2007.
R. Michelle Schroll,
Office of the Secretary.

[FR Doc. 07-3620 Filed 7-20-07; 10:36 am]

BILLING CODE 7590-01-P